DEPARTMENT OF COMMERCE

International Trade Administration

Export Trade Certificate of Review

ACTION: Notice of issuance of an amended Export Trade Certificate of Review, application no. 90-5A005.

SUMMARY: The Department of Commerce has issued an amended Export Trade Certificate of Review to the California Kiwifruit Commission (“CKC”) and California Kiwifruit Exporters Association (“CKEA”) on February 5, 2003. The original certificate was issued on August 10, 1990 (55 FR 33740, August 17, 1990), and previously amended on November 27, 1990 (55 FR 50204, December 5, 1990); January 29, 1991 (56 FR 4601, February 5, 1991); February 24, 1992 (57 FR 6712, February 27, 1992); and January 14, 2002 (67 FR 2636, January 18, 2002).

FOR FURTHER INFORMATION CONTACT: Jeffrey C. Anspacher, Director, Office of Export Trading Company Affairs, International Trade Administration, (202) 482-5131 (this is not a toll-free number), or by E-mail at oetca@ita.doc.gov.

SUPPLEMENTARY INFORMATION: Title III of the Export Trading Company Act of 1982 (15 U.S.C. sections 4001-21) authorizes the Secretary of Commerce to issue Export Trade Certificates of Review. The regulations implementing title III are found at 15 CFR part 325 (2001).

The Office of Export Trading Company Affairs (“OETCA”) is issuing this notice pursuant to 15 CFR 325.6(b), which requires the Department of Commerce to publish a summary of the certification in the Federal Register. Under section 305(a) of the Act and 15 CFR 325.11(a), any person aggrieved by the Secretary's determination may, within 30 days of the date of this notice, bring an action in any appropriate district court of the United States to set aside the determination on the ground that the determination is erroneous.

Description of Amended Certificate

CKC's and CKEA's Export Trade Certificate of Review has been amended to:

1. Add each of the following companies as a new “member” of the certificate within the meaning of section 325.2(1) of the regulations (15 CFR 325.2(1)): Oppenheimer, David & Associates, LP, Seattle, Washington; and Pacific Trellis Fruit, Reedley, California;

2. Delete the following companies as “members” of the certificate: Sunny Cal Farms, Reedley, California; and George Brothers, Sultana, California; and

3. Change the listing of the company names for the current members: Universal Produce Corp. to the new listing Phillips Farms Marketing; Chase National Kiwi Farms, Inc. to the new listing Chase National Kiwi Farms; Kings Canyon/Corrin Sales Corp. to the new listing Kings Canyon Corrin Sales, LLC; Regatta Tropicals to the new listing Regatta Tropicals, Ltd; Stellar Distributing to the new listing Stellar Distributing, Inc.; Sun Pacific Marketing Coop. to the new listing Sun Pacific Marketing Cooperative, Inc.; Trinity Fruit Sales Co. to the new listing Trinity Fruit Sales Company; Venida Packing Co. to the new listing Venida Packing, Inc.; and WKS/Wil-Ker-Son Ranch to the new listing WKS Sales.

The effective date of the amended certificate is November 7, 2002. A copy of the amended certificate will be kept in the International Trade Administration's Freedom of Information Records Inspection Facility, Room 4102, U.S. Department of Commerce, 14th Street and Constitution Avenue, NW., Washington, DC 20230.

Dated: February 5, 2003.
Jeffrey C. Anspacher,
Director, Office of Export Trading, Company Affairs.

[FR Doc. 03-3300 Filed 2-10-03; 8:45 am]

BILLING CODE 3510-DR-P